DEPARTMENT OF ENERGY

Federal Energy Regulatory Commission

[Project No. 2905-035]

Village of Enosburg Falls, Vermont; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 2905-035.

c. Date Filed: April 30, 2021.

d. Applicant: Village of Enosburg Falls, Vermont (Village).

e. Name of Project: Enosburg Falls Hydroelectric Project (project).

f. Location: On the Missisquoi River in Franklin County, Vermont. The project does not occupy any federal land.

g. Filed Pursuant to: Federal Power Act 16 U.S.C. 791(a)-825(r).

h. Applicant Contact: Paul V. Nolan, Representative of Village of Enosburg Falls, 5515 North 17th Street, Arlington, VA 22205-2722; phone at (703) 534-5509; email at pvnpvndiver@gmail.com.

i. FERC Contact: Bill Connelly at (202) 502-8587, or william.connelly@ferc.gov.

j. Cooperating Agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: June 29, 2021.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Enosburg Falls Project (P-2905-035).

m. The application is not ready for environmental analysis at this time.

n. Project Description: The existing Enosburg Falls Project consists of: (1) A 195-foot-long, 18.5-foot-high concrete gravity dam that includes the following sections: (a) A left abutment section; (b) a 165-foot-long spillway with 24-inch-high pneumatic crest gates and a crest elevation of 386.87 feet National Geodetic Vertical Datum of 1929 (NGVD 29) at the top of the pneumatic crest gates; and (c) a right abutment section; (2) a 121-acre impoundment with a usable storage capacity of 240 acre-feet and a gross storage capacity of 750 acre-feet at an elevation of 386.87 feet NGVD 29; (3) a steel headgate structure equipped with an inclined steel trashrack, that includes two 10-foot-wide, 8-foot-high hydraulically-powered sluice gates and a concrete penstock intake structure with a 12-foot-wide, 8-foot-high hydraulically-powered sluice gate; (4) an 80-foot-long, 5.6-foot-diameter steel penstock that provides flow to a 375-kilowatt (kW) semi-Kaplan regulated turbine-generator unit located inside of a 39.9-foot-long, 24.3-foot-wide concrete and brick masonry powerhouse (Kendall Plant); (5) an approximately 5-foot-long, 10-foot-wide tailrace of the Kendall Plant that discharges into the Missisquoi River; (6) an approximately 210-foot-long, 29-foot-wide headrace canal located at the downstream of the headgate structure; (7) an intake structure, at the downstream end of the headrace canal, equipped with a sluice gate and an inclined trashrack; (8) a 28.7-foot-long, 29.9-foot-wide concrete and brick masonry powerhouse (Village Plant) containing a vertical Kaplan turbine-generator unit with an authorized capacity of 600 kW; (9) an approximately 240-foot-long, 25-foot-wide tailrace of the Village Plant that discharges into the Missisquoi River; (10) two 2.4-kilovolt (kV) generator lead lines, respectively 200-foot-long and 250-foot-long, and a 4.16/12.47-kV transformer that connects the project to the local utility distribution system at the Enosburg Substation; and (11) appurtenant facilities.

The Village voluntarily operates the project in a run-of-river mode using an automatic pond level control system to regulate turbines operation, such that outflow from the project approximates inflow. The project creates an approximately 1400-foot-long bypassed reach of the Missisquoi River.

Downstream fish passage is provided by a bypass facility located on the right side of the dam and consists of a weir gate, a 3-foot-wide, 6-foot-long concrete fish collection box, and an approximately 65-foot-long, 24-inch-diameter concrete encased fish passage pipe.

For the purpose of protecting aquatic resources, the current license requires the Village to: (1) Maintain a continuous minimum flow of 293 cubic feet per second (cfs) or inflow, whichever is less, in the bypassed reach, as measured downstream of the tailrace of the Village Plant; and (2) maintain a continuous minimum flow of 293 cfs from April 15 until June 15, and 120 cfs from June 16 until April 14, or inflow, whichever is less, in the bypassed reach between the Kendall Plant tailrace and the Village Plant tailrace.

The Village proposes to: (1) Continue to operate the project in a run-of-river mode; (2) provide a year-round continuous minimum flow of 243 cfs, or inflow, whichever is less, in the bypassed reach between the Kendall Plant tailrace and the Village Plant tailrace; (3) develop a plan for maintaining minimum flows, impoundment levels, and run-of-river operation; and (4) develop a historic properties management plan to address and mitigate any project effects on historic or cultural properties.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-2905). At this time, the Commission has suspended access to the Commission's Public Reference Room due to the proclamation declaring a National Emergency concerning the Novel Coronavirus Disease (COVID-19) issued by the President on March 13, 2020. For assistance, contact FERC at FERCOnlineSupport@ferc.gov or call toll-free, (866) 208-3676 or (202) 502-8659 (TTY).

You may also register online at https://ferconline.ferc.gov/FERCOnline.aspx to be notified via email of new filings and issuances related to this or other pending projects. For assistance, contact FERC Online Support.

p. Procedural Schedule: The application will be processed according to the following preliminary schedule. Revisions to the schedule will be made as appropriate.

Issue Deficiency Letter—June 2021

Request Additional Information—June 2021

Issue Acceptance Letter—September 2021

Issue Scoping Document 1 for comments—September 2021

Request Additional Information (if necessary)—September 2021

Issue Scoping Document 2—November 2021

Issue Notice of Ready for Environmental Analysis—November 2021

q. Final amendments to the application must be filed with the Commission no later than 30 days from the issuance date of the notice of ready for environmental analysis.

Dated: May 13, 2021.
Kimberly D. Bose,
Secretary.

[FR Doc. 2021-10542 Filed 5-18-21; 8:45 am]

BILLING CODE 6717-01-P